DEPARTMENT OF COMMERCE

National Oceanic and Atmospheric Administration

50 CFR Part 648

[Docket No. 130919816-4205-02]

RIN 0648-XE292

Fisheries of the Northeastern United States; Atlantic Herring Fishery; 2015 Management Area 1A Seasonal Annual Catch Limit Harvested

AGENCY: National Marine Fisheries Service (NMFS), National Oceanic and Atmospheric Administration (NOAA), Commerce.

ACTION: Temporary rule; closure.

SUMMARY: NMFS is implementing a 2,000 lb possession limit for Atlantic herring in or from management Area 1A, based on the projection that 92 percent of the 2015 annual seasonal catch limit for that area will have been harvested by the effective date. Federally permitted vessels may not fish for, possess, transfer, receive, land, or sell more than 2,000 lb (907.2 kg) of Atlantic herring in or from Area 1A for the remainder of the fishing year, and federally permitted dealers may not purchase more than 2,000 lb (907.2 kg) of herring from federally permitted vessels for the duration of this action. This action is necessary to comply with the regulations implementing the Atlantic Herring Fishery Management Plan and is intended to prevent over harvest in Area 1A.

DATES: Effective 1200 hr local time, November 2, 2015, through December 31, 2015.

FOR FURTHER INFORMATION CONTACT: Shannah Jaburek, Fishery Management Specialist, (978) 282-8456.

SUPPLEMENTARY INFORMATION: Regulations governing the Atlantic herring fishery can be found at 50 CFR part 648, including requirements for setting annual catch allocations. NMFS set the 2015 Area 1A sub-annual catch limit (ACL) at 30,585 mt, based on an initial 2015 sub-ACL allocation of 31,200 mt, minus a deduction of 936 mt for research set-aside catch, plus an increase of 321 mt to account for unharvested 2013 catch. NMFS established these values in the 2013 through 2015 specifications (78 FR 61828, October 1, 2013) and a final rule implementing sub-ACL adjustments for 2015 (80 FR 7808, February 12, 2015). For management Area 1A, NMFS restricts herring catch to the seasonal period from June 1 through December 31. NMFS prohibits vessels from catching herring during the seasonal period from January 1 through May 31.

The Administrator, Greater Atlantic Region, NMFS (Regional Administrator), monitors the herring fishery catch in each of the management areas based on dealer reports, state data, and other available information. The regulations at § 648.201 require that when Regional Administrator projects that herring catch will reach 92 percent of the sub-ACL allocated in any of the four management areas designated in the Atlantic herring Fishery Management Plan (FMP), NMFS must prohibit, through notification in the Federal Register, herring vessel permit holders from fishing for, possessing, transferring, receiving, landing, or selling more than 2,000 lb (907.2 kg) of herring per trip or calendar day in or from the specified management area for the remainder of the fishing year.

The Regional Administrator has determined, based on dealer reports, state data, and other available information, that the herring fleet will have caught 92 percent of the total herring sub-ACL allocated to Area 1A by November 2, 2015. Therefore, effective 1200 hr local time, November 2, 2015, federally permitted vessels may not fish for, catch, possess, transfer, land, or sell more than 2,000 lb (907.2 kg) of herring per trip or calendar day, in or from Area 1A through December 31, 2015, except that vessels that have entered port before 1200 hr on November 2, 2015, may land and sell more than 2,000 lb (907.2 kg) of herring from Area 1A from that trip. In addition, due to state landing restrictions, all herring vessels must land in accordance with state regulations. A vessel may transit through Area 1A with more than 2,000 lb (907.2 kg) of herring on board, provided all herring was caught outside of Area 1A and all fishing gear is stowed and not available for immediate use as defined by § 648.2. Effective 1200 hr on November 2, 2015, federally permitted dealers may not receive herring from federally permitted herring vessels that harvest more than 2,000 lb (907.2 kg) of herring from Area 1A through 2400 hr local time, December 31, 2015, unless it is from a trip landed by a vessel that entered port before 1200 hr on November 2, 2015, and that catch is landed in accordance with state regulations.

Classification

This action is required by 50 CFR part 648 and is exempt from review under Executive Order 12866.

NMFS finds good cause pursuant to 5 U.S.C. 553(b)(B) to waive prior notice and the opportunity for public comment because it would be contrary to the public interest and impracticable. This action severely restricts the catch of herring in Area 1A for the remainder of the fishing year. Data indicating the herring fleet will have landed at least 92 percent of the 2015 sub-ACL allocated to Area 1A have only recently become available. Once these data become available, NMFS is required by Federal regulation to implement a 2,000-lb (907.2-kg) possession limit for Area 1A through December 31, 2015. The regulations at § 648.201(a)(1)(i) require such action to ensure that herring vessels do not exceed the 2015 sub-ACL allocated to Area 1A. If implementation of this closure is delayed to solicit prior public comment, the sub-ACL for Area 1A for this fishing year will likely be exceeded, thereby undermining the conservation objectives of the FMP. If sub-ACLs are exceeded, the excess must also be deducted from a future sub-ACL and would reduce future fishing opportunities. NMFS further finds, pursuant to 5 U.S.C 553(d)(3), good cause to waive the 30-day delayed effectiveness period for the reasons stated above.

Authority: 16 U.S.C. 1801 et seq.

Dated: October 29, 2015.
Emily H. Menashes,
Acting Director, Office of Sustainable Fisheries, National Marine Fisheries Service.

[FR Doc. 2015-27997 Filed 10-29-15; 4:15 pm]

BILLING CODE 3510-22-P